DEPARTMENT OF HEALTH AND HUMAN SERVICES

Centers for Disease Control and Prevention

[30Day-16-0941]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Evaluation of Dating Matters®: Strategies to Promote Healthy Teen Relationships—Revision (OMB# 0920-0941, expiration date 5/30/2016)—National Center for Injury Prevention and Control (NCIPC), Centers for Disease Control and Prevention (CDC).

Background and Brief Description

The Centers for Disease Control and Prevention (CDC) is seeking a revision request that will enable continued longitudinal follow-up for CDC's teen dating violence (TDV) prevention initiative, Dating Matters®: Strategies to Promote Healthy Teen Relationships. Approval of this revision request will allow us to continue to assess the effectiveness of the CDC-developed comprehensive approach to TDV for longer-term follow-up as the students in our sample age and their engagement in dating relationships increases. The current evaluation of Dating Matters® tests a comprehensive approach to prevent TDV among youth in high-risk urban communities. In order to address gaps in effective prevention programming for youth in urban communities with high crime and economic disadvantage, who may be at highest risk for TDV perpetration and victimization, Dating Matters® focuses on middle school youth with universal primary prevention strategies aimed at building a foundation of healthy relationship skills before dating and/or TDV is initiated.

All data collected as part of this request will be used in the longitudinal outcome evaluation of the Dating Matters® initiative. No teen dating violence comprehensive program has been developed and implemented specifically for high risk urban communities. Further, no other data source exists to examine the effectiveness of the Dating Matters® initiative for preventing dating violence. The evaluation utilizes a cluster randomized design in which 46 schools in four funded communities (Alameda County, California; Baltimore, Maryland; Broward County, Florida; and, Chicago, Illinois), were randomized to either Dating Matters® or standard practice.

CDC seeks to continue evaluation activities in these four communities. Therefore, this data collection is critical to understand the effectiveness, feasibility, and cost of Dating Matters® and to inform decisions about disseminating the program to other communities.

OMB approval is requested for three years for this revision. The only cost to respondents will be time spent on responding to the survey. A total of 4,399 respondents will be approached on an annual basis with an average estimated burden of 45/60 minutes per respondent per year (3,299 burden hours).

Estimated Annualized Burden Hours
Type of respondent | Form name | Number of respondents | Number of responses per respondent | Average burden per response (hours)
Student Program Participant | Student Outcome Survey Follow-up | 4,399 | 1 | 45/60

Leroy A. Richardson,
Chief, Information Collection Review Office, Office of Scientific Integrity, Office of the Associate Director for Science, Office of the Director, Centers for Disease Control and Prevention.

[FR Doc. 2016-00287 Filed 1-8-16; 8:45 am]

BILLING CODE 4163-18-P